DEPARTMENT OF HEALTH AND HUMAN SERVICES

Substance Abuse and Mental Health Services Administration

Change in Eligibility and Special Funding Opportunities for Two Ongoing Substance Abuse Treatment Programs

AGENCY: Center for Substance Abuse Treatment (CSAT), Substance Abuse and Mental Health Services Administration (SAMHSA), DHHS

ACTION: Change in eligibility and special funding opportunities under SAMHSA/CSAT Comprehensive Community Treatment Program (PA 99-050) and Action Grant Program (PA 00-002)

SUMMARY: This notice is to inform the public that the eligibility requirements in the SAMHSA/CSAT program announcements: PA 99-050-Comprehensive Community Treatment Program for the Development of New and Useful Knowledge (Short Title: Community Treatment Program) and PA 00-002-Community Action Grants for Service Systems Change (Short Title: CSAT Action Grant Program) will be changed immediately following the May 10, 2001 receipt date for the Community Treatment Program. Effective May 11, 2001, for profit entities will not be eligible applicants under these programs. On October 17, 2000, Public Law 106-310 reauthorized SAMHSA. Section 509 of the law, Priority Substance Abuse Treatment Needs of Regional and National Significance, authorized CSAT, through the Secretary, DHHS, to carry out activities described in the section directly or through grants or cooperative agreements with States, political subdivisions of States, Indian tribes and tribal organizations, and other public or nonprofit private entities. For profit entities are excluded under section 509; therefore, for profit entities are no longer eligible to apply for grants under PA 99-050 and PA 00-002. Applications received for the May 10, 2001, or earlier receipt dates, are not affected by this change.

PA 99-050, Community Treatment Program, was published in the Federal Register on March 8, 1999 (Vol. 64, Number 44, pages 11027-11031). A modification/clarification notice for PA 99-050 was published in the Federal Register on December 13, 1999 (Vol. 64, Number 238, pages 69544-69545).

PA 00-002, CSAT Action Grant Program, was published in the Federal Register on February 17, 2000 (Vol. 65, Number 33, pages 8184-8186).

Potential applicants under these SAMHSA/CSAT programs should be aware that one or both of these programs could be updated and reannounced in the Federal Register within the next year.

This notice also is to inform the public about special funding opportunities under the aforementioned programs. The specifics are as follows:

Subject to the availability of funds, an additional $500,000 will be allocated to PA 99-050, Community Treatment Program, to support exploratory/pilot studies related to managed care. Pilot studies may be submitted that are responsive to the following areas: (l) Evaluation of substance abuse treatment computerized clinical and/or patient decision support systems and/or (2) examining the links between established substance abuse performance measures, e.g., Washington Circle Group Performance Measures and Treatment Outcomes. Exploratory/pilot study proposals should build upon the existing resources within substance abuse treatment delivery systems. This notice applies to applications submitted for the September 10, 2001 receipt date only. It is anticipated that 4-5 grants will be awarded.

Applicants must follow the eligibility criteria (except, as noted above, for profit entities are not eligible) and guidelines for preparing and submitting an application presented in the complete program announcement (PA 99-050). The complete announcement and application materials and the December 13, 1999 addendum that includes modified/clarified sections are available through the SAMHSA web site-www.samhsa.gov or from the National Clearinghouse for Alcohol and Drug Information (telephone 800-729-6686).

Additional information related to exploratory/pilot studies related to managed care may be obtained from: Sarah Wattenberg, Office of Managed Care, Center for Substance Abuse Treatment, SAMHSA, Tele: 301-443-0092.

General questions related to program announcement PA 99-050 should be directed to: Tom Edwards, Jr., Division of Practice and Systems Development, Center for Substance Abuse Treatment, SAMHSA, Tele: 301-443-8453.

* * * * *

Subject to the availability of funds, an additional $500,000 will be allocated to PA 00-002, CSAT Action Grant Program, to support exemplary practice models for rural communities experiencing problems with addiction to heroin or prescription opiates such as OxyContin or hydrocodone. Proposed projects are intended to help treatment providers, including physicians, hospitals, community health centers and community mental health centers adopt exemplary practice models for opioid agonist treatment (OAT) into their communities. These exemplary practices will be targeted at delivering medication assisted therapy (with opioid agonists) to rural populations where previous access to OAT services has been limited or nonexistent. Projects should be prepared to provide leadership in developing consensus among key stakeholders in the State and local community(ies) toward the goal of developing OAT services to meet the unique needs of the community, and to address new and emerging treatment needs related to the increased availability of heroin or prescribed opioid medications, such as OxyContin or hydrocodone, which are being diverted for illicit use.

Applications for this special funding related to exemplary practice models for OAT will be accepted under the special one-time receipt date of September 10, 2001, only. It is anticipated that 5 grants will be awarded. Applications under the standing CSAT Community Action Grant program must be submitted for the standing January 10 receipt date.

Applicants must follow the eligibility criteria (except, as noted above, for profit entities are not eligible) and guidelines for preparing and submitting an application presented in the complete program announcement (PA 00-002). The complete announcement and application materials are available through the SAMHSA web site-www.samhsa.gov or from the National Clearinghouse for Alcohol and Drug Information (telephone 800-729-6686).

Additional information about exemplary practice models for OAT may be obtained from: Mike Bacon, Office of Pharmacologic and Alternative Therapies, Center for Substance Abuse Treatment, SAMHSA, Tele: 301-443-7749.

General questions related to program announcement PA 00-002 should be directed to: Jim Herrell, Ph.D., Division of Practice and Systems Development, Center for Substance Abuse Treatment, SAMHSA, Tele: 301-443-2376.

Dated: April 23, 2001.
Richard Kopanda,
Executive Officer, SAMHSA.

[FR Doc. 01-10452 Filed 4-26-01; 8:45 am]

BILLING CODE 4162-20-P